DEPARTMENT OF ENERGY

Federal Energy Regulatory Commission

Combined Notice of Filings #1

April 24, 2009.

Take notice that the Commission received the following electric corporate filings:

Docket Numbers: EC09-71-000.

Applicants: Wisconsin Power and Light Company.

Description: Application of Wisconsin Power and Light Company; Preliminary Survey and Investigation Costs for Proposed Nelson Dewey Generating Facility Unit 3.

Filed Date: 04/24/2009.

Accession Number: 20090424-5068.

Comment Date: 5 p.m. Eastern Time on Friday, May 15, 2009.

Docket Numbers: EC09-72-000.

Applicants: MACH Gen, LLC, Merrill Lynch GENCO II, LLC.

Description: Application for Order Authorizing Disposition of Jurisdictional Facilities under Section 203 of the Federal Power Act and Request for Waivers and Expedited Action.

Filed Date: 04/24/2009.

Accession Number: 20090424-5071.

Comment Date: 5 p.m. Eastern Time on Friday, May 15, 2009.

Docket Numbers: EC09-73-000.

Applicants: Granite Ridge Energy, LLC, Merrill Lynch Credit Products, LLC.

Description: Application for Order Under Section 203 of the Federal Power Act and Request for Waivers and Expedited Action.

Filed Date: 04/24/2009.

Accession Number: 20090424-5078.

Comment Date: 5 p.m. Eastern Time on Friday, May 15, 2009.

Take notice that the Commission received the following electric rate filings:

Docket Numbers: ER98-4512-006.

Applicants: Consolidated Water Power Company.

Description: Letter of Concurrence submitted by Consolidated Water Power Company.

Filed Date: 04/23/2009.

Accession Number: 20090423-5065.

Comment Date: 5 p.m. Eastern Time on Thursday, May 14, 2009.

Docket Numbers: ER09-1028-000.

Applicants: Covanta Hempstead Company.

Description: Covanta Hempstead Co submits a request for acceptance of their initial Market-Based Rate Tariff, Waivers and Blanket Authority.

Filed Date: 04/23/2009.

Accession Number: 20090423-0261.

Comment Date: 5 p.m. Eastern Time on Thursday, May 14, 2009.

Docket Numbers: ER09-1029-000.

Applicants: ISO New England Inc.

Description: Action Energy LLC et al. submits motion for limited waiver and request for expedited treatment of indicated DR market participant.

Filed Date: 04/23/2009.

Accession Number: 20090423-0231.

Comment Date: 5 p.m. Eastern Time on Thursday, May 14, 2009.

Docket Numbers: ER09-1031-000.

Applicants: Westar Energy, Inc.

Description: Westar Energy, Inc submits FERC Electric Rate Schedule No. 319, a Supplemental Generation Agreement.

Filed Date: 04/23/2009.

Accession Number: 20090423-0260.

Comment Date: 5 p.m. Eastern Time on Thursday, May 14, 2009.

Docket Numbers: ER09-1032-000.

Applicants: Westar Energy, Inc.

Description: Westar Energy, Inc submits FERC Electric Rate Schedule No. 320, a Supplemental Generation Agreement.

Filed Date: 04/23/2009.

Accession Number: 20090423-0259.

Comment Date: 5 p.m. Eastern Time on Thursday, May 14, 2009.

Docket Numbers: ER09-1033-000.

Applicants: Westar Energy, Inc.

Description: Westar Energy, Inc submits FERC Electric Rate Schedule No. 318, a Supplemental Generation Agreement.

Filed Date: 04/23/2009.

Accession Number: 20090423-0258.

Comment Date: 5 p.m. Eastern Time on Thursday, May 14, 2009.

Docket Numbers: ER09-1034-000.

Applicants: PJM Interconnection, LLC.

Description: PJM Interconnection, LLC submits an executed interconnection service agreement.

Filed Date: 04/23/2009.

Accession Number: 20090423-0257.

Comment Date: 5 p.m. Eastern Time on Thursday, May 14, 2009.

Docket Numbers: ER09-1037-000.

Applicants: Wisconsin Power and Light Company.

Description: Application of Wisconsin Power and Light Company; Preliminary Survey and Investigation Costs for Proposed Nelson Dewey Generating Facility Unit 3.

Filed Date: 04/24/2009.

Accession Number: 20090424-5068.

Comment Date: 5 p.m. Eastern Time on Friday, May 15, 2009.

Take notice that the Commission received the following electric securities filings:

Docket Numbers: ES09-27-000.

Applicants: El Paso Electric Company.

Description: Application of El Paso Electric Company under Section 204 of the Federal Power Act to Extend the Term of Authorization for a Revolving Credit Facility.

Filed Date: 04/21/2009.

Accession Number: 20090421-5207.

Comment Date: 5 p.m. Eastern Time on Tuesday, May 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-10159 Filed 5-1-09; 8:45 am]

BILLING CODE 6717-01-P